DEPARTMENT OF COMMERCE

National Oceanic and Atmospheric Administration

50 CFR Part 648

[I.D. 082406C]

RIN 0648-AQ87

Magnuson-Stevens Fishery Conservation and Management Act Provisions; Fisheries of the Northeastern United States; Atlantic Herring Fishery; Amendment 1 to the Atlantic Herring Fishery Management Plan

AGENCY: National Marine Fisheries Service (NMFS), National Oceanic and Atmospheric Administration (NOAA), Commerce.

ACTION: Notice of Availability of a fishery management plan amendment; request for comments.

SUMMARY: NMFS announces that the New England Fishery Management Council (Council) has submitted Amendment 1 to the Atlantic Herring Fishery Management Plan (FMP) (Amendment 1), incorporating the draft Final Supplemental Environmental Impact Statement (FSEIS), Regulatory Impact Review (RIR), and the Initial Regulatory Flexibility Analysis (IRFA), for Secretarial review and is requesting comments from the public. The proposed measures include: A limited access program; an open access incidental catch permit; a change in the management area boundaries; establishment of a purse seine/fixed gear-only area; establishment of a Maximum Sustainable Yield (MSY) proxy; an approach to determining the distribution of area-specific total allowable catches (TACs); a multi-year specifications process; a research quota set-aside for herring-related research; set-asides for fixed gear fisheries; a change in the midwater trawl gear definition; and additional measures that could be implemented through the framework adjustment process. The intent of this action is to provide efficient management of the Atlantic herring fishery and to meet conservation objectives.

DATES: Comments must be received on or before November 6, 2006.

ADDRESSES: Written comments on the proposed rule may be sent by any of the following methods:

Mail to Patricia A. Kurkul, Regional Administrator, NMFS, Northeast Regional Office, One Blackburn Drive, Gloucester, MA 01930. Mark the outside of the envelope “Comments Herring Amendment 1”;

Fax to Patricia A. Kurkul (978) 281-9135;

E-mail to the following address: HerrAmend1@noaa.gov. Include in the subject line of the e-mail comment the following document identifier: “Comments Herring Amendment 1.

Electronically through the Federal e-Rulemaking portal: http://www.regulations.gov.

Copies of Amendment 1, the draft FSEIS, RIR, and the IRFA are available from Paul J. Howard, Executive Director, New England Fishery Management Council, 50 Water Street, Newburyport, MA 01950. These documents are also available online at http://www.nefmc.org.

FOR FURTHER INFORMATION CONTACT: Eric Jay Dolin, Fishery Policy Analyst, 978-281-9259, fax 978-281-9135, e-mail eric.dolin@noaa.gov.

SUPPLEMENTARY INFORMATION: The notice of availability for the Draft Supplemental Environmental Impact Statement (DSEIS), which analyzed the impacts of all of the measures under consideration in Amendment 1 and Framework 43 to the Northeast Multispecies Fishery Management Plan (Northeast Multispecies FMP), was published on September 9, 2005 (70 FR 53657), with public comment accepted through October 24, 2005. Public hearings were held in October 2005, in six locations from Maine to New Jersey. At its January 31-February 2, 2006, meeting, the Council voted to adopt Amendment 1 for submission to NMFS, and submitted the document and associated analyses on May 3, 2006.

The primary purpose of Amendment 1 is to modify the management program for the Atlantic herring fishery by implementing a limited access program to better match the capacity of the fleet to the resource. The Amendment is also intended to modify other management measures so that the Atlantic herring resource is managed more efficiently and sustainably.

In July 1999, the Council voted to develop a limited or controlled access program for the herring fishery, and NMFS, at the request of the Council, established September 16, 1999 (FR 64 50266), as a control date for the Atlantic herring fishery in Federal waters. Scoping meetings for an amendment to the FMP were conducted in February 2000, shortly after completion of the FMP, with public hearings taking place during that month in Maine, Massachusetts, Rhode Island, and New Jersey. In April 2003, the Council re-initiated scoping, holding public hearings in April and May of that year in Maine, Massachusetts, and New Jersey.

During the development of Amendment 1, both as a result of issues raised by the Council and by the public during scoping, a variety of elements were added to Amendment 1, all of which are intended to improve the management of the fishery and contribute to the sustainability of the stock. These include an open access incidental catch permit; a change in the management area boundaries; establishment of a purse seine/fixed gear-only area; establishment of an MSY proxy; an approach to determining the distribution of area-specific TACs; a multi-year specifications process; a research quota set-aside for herring-related research; a set-aside for fixed gear fisheries; measures to address bycatch of multispecies in the herring fishery; a change in the midwater trawl gear definition; and additional measures that could be implemented through the framework adjustment process.

At its final meeting for Amendment 1, the Council separated the measures to address bycatch in the herring fishery from Amendment 1, and agreed to submit these measures separately as Framework 43 to the NE Multispecies FMP. The measures contained in Framework 43 were included in the DSEIS and public hearing document for Amendment 1 to the Atlantic Herring FMP (Amendment 1). The Council voted on February 2, 2006, to adopt the measures in Amendment 1 and Framework 43, but to submit Framework 43 in advance of Amendment 1 in order to establish measures for the fishery as soon as possible during the 2006 summer fishing season. The final rule for Framework 43 was published in the Federal Register on August 15, 2006 (71 FR 46871).

Public comments are being solicited on Amendment 1 and its incorporated documents through the end of the comment period stated in this notice of availability. A proposed rule that would implement Amendment 1 may be published in the Federal Register for public comment, following NMFS's evaluation of the proposed rule under the procedures of the Magnuson-Stevens Act. Public comments on the proposed rule must be received by the end of the comment period provided in this notice of availability of Amendment 1 to be considered in the approval/disapproval decision on the amendment. All comments received by November 6, 2006, whether specifically directed to Amendment 1 or the proposed rule, will be considered in the approval/disapproval decision on Amendment 1. To be considered, comments must be received by close of business on the last day of the comment period; that does not mean postmarked or otherwise transmitted by that date.

Authority: 16 U.S.C. 1801 et seq.

Dated: August 30, 2006.
James P. Burgess,
Acting Director, Office of Sustainable Fisheries, National Marine Fisheries Service.

[FR Doc. E6-14662 Filed 9-5-06; 8:45 am]

BILLING CODE 3510-22-S